DEPARTMENT OF AGRICULTURE

Forest Service

Gallatin National Forest Invasive Plant Treatment EIS, Gallatin National Forest, Gallatin County, Madison County, Meagher County, Park County, Sweet Grass County, and Stillwater County, MT

AGENCY: Forest Service, USDA.

ACTION: Notice of intent to prepare an environmental impact statement.

SUMMARY: Invasive plants can alter ecosystem processes, including: productivity; hydrologic function; nutrient cycling, and natural disturbance patterns such as frequency and intensity of wildfires. Changing these processes can lead to displacement of native plant species, eventually impacting wildlife and plant habitat, recreational opportunities, livestock forage, and scenic values. The Forest Service has identified that at least 15,500 acres on the Gallatin National Forest that are in a downward trend due to the infestation of invasive plants. The Forest Service will evaluate these known infestations and high-risk areas or conditions that may cause infestations over the next ten to fifteen years and analyze various management activities to reduce the spread and density of invasive plants and allow desirable native vegetation to re-establish and regain vigor. Based on previous trend information, it is estimated that infestations could increase to approximately 155,000 acres over the next ten to fifteen years at historic funding levels. The purpose and need for this project is for the Forest Service to improve the trend of the ecological condition for the known infestations, prevent infestations in areas that have potential for invasion, and allow for adaptive management to treat anticipated new infestations across the Gallatin National Forest over the next ten to fifteen years. The proposed actions being considered to achieve the purpose and need include implementing an integrated pest management program aimed at controlling new starts, priority areas and areas of minor infestations; and implementing holding actions on areas of existing large infestations. The Gallatin National Forest is proposing to continue control of invasive plants through the integration of mechanical, biological, ground and aerial (helicopter) herbicide control methods.

DATES: Comments concerning the scope of the analysis should be received in writing on or before February 28, 2003.

ADDRESSES: Send written comments to Hebgen Lake Ranger District, Gallatin National Forest, PO Box 520, West Yellowstone, MT 59758.

FOR FURTHER INFORMATION CONTACT: Direct questions about the proposed action and EIS to Susan LaMont, Project Coordinator, PO Box 520, West Yellowstone, Montana 59758, phone (406) 823-6976.

SUPPLEMENTARY INFORMATION: These management activities would be administered by the Gallatin National Forest in Gallatin, Madison, Meagher, Park, Sweet Grass, and Stillwater Counties, Montana. The EIS will tier to the 1987 Gallatin National Forest and Grasslands Land and Resource Management Plan (Forest Plan), which provide the overall management direction for the area. The proposed action is consistent with the Forest Plan. The purpose of the Forest Service proposal is to further movement towards desired conditions outlined in the Forest Plan, by:

• Protecting the natural condition and biodiversity on the Gallatin National Forest by preventing or limiting the spread of aggressive, non-native plant species that displace native vegetation;

• Promptly eliminating new invaders (species not previously reported in the area) before they become established;

• Reducing known and potential invasive plant seed sources on trailheads and campsites, along main roads and trails, within powerline corridors, and in wildlife and livestock use areas;

• Preventing or limiting the spread of established invasive plants into areas containing little or no infestation;

• Protecting sensitive and unique habitats including the Absaroka-Beartooth Wilderness Area, LeeMetcalf Wilderness, municipal watersheds, critical winter ranges, research natural areas, riparian areas, and sensitive plant populations.

The proposed action will be consistent with the Forest Plan, which provides goals, objectives, standards and guidelines of the various activities and land allocations on the forest. The Forest Plan allocates the project area into twenty-six management areas (MAs), the invasive plants occur within most of these management areas. Private lands are also included within the project area boundary. Although excluded from Forest Service activities, project access and the condition of private lands will be considered during alternative development and when analyzing potential cumulative efforts.

The key issue topics identified to date include:

• The current and potential impacts of invasive plants on natural resources such as critical big game habitat, native plant communities, wilderness values, watersheds, and threatened, endangered, or sensitive species;

• Economics, effectiveness, and potential impacts of various control methods on natural resources;

• Potential effects on non-target native plants, wildlife and fish populations, and human health from the application of herbicides (both ground base and aerial applications).

The areas the Forest Service plan to analyze include:

Ranger district | Location (township range) | Maximum treatment acreage ¹ | Estimated aerial treatment acreage
Big Timber | Between T5N—T5S; and Between R15E—R10E, Montana Principle Meridian. | 900 Acres | 0 Acres.
Livingston | Between T6N—T8S; and Between R12E—R5E, Montana Principle Meridian. | 2,000 Acres | 0 Acres.
Gardiner | Between TFS—T9S; and Between R17E—R5E, Montana Principle Meridian. | 6,200 Acres | 0 Acres.
Bozeman | Between T4N—T9S; and Between R8E—R1E, Montana Principle Meridian. | 3,700 Acres | 171 Acres.
Hebgen Lake | Between T8S—T15S; and Between R5E—R2E, Montana Principle Meridian. | 2,700 Acres | 172 Acres.
¹ These are the maximum projected treatment acres, actual treatment acres may be less.

A range of reasonable alternatives will be considered, including a no action alternative. Other alternatives will examine various combinations of invasive plant treatment. Based on the issues gathered through scoping, the action alternatives will vary in the amount and location of acres considered for treatment and the number, type, and location of activity.

Public participation will be especially important at several points during the analysis, beginning with the scoping process (40 CFR 1501.7). The Forest Service will be seeking information, comments, and assistance from Federal, State, local agencies, tribes and other individuals or organizations who may be interested in or affected by the proposed project. This input will be used in preparation of the draft EIS. Continued scoping and public participation efforts will be used by the interdisciplinary team to identify new issues, determine alternatives in response to the issues, and determine the level of analysis needed to disclose potential biological, physical, economic, and social impacts associated with this project.

The draft EIS is expected to be filed with the Environmental Protection Agency (EPA) and to be available for public review by February 2003. The EPA will publish a notice of availability of the draft EIS in the Federal Register. The comment period on the draft EIS will be 45 days from the date the EPA notice appears in the Federal Register. At that time, copies of the draft EIS will be distributed to interested and affected agencies, organizations, and members of the public for their review and comment. It is important that those interested in this proposal on the Gallatin National Forest participate at that time.

The Forest Service believes it is important to give reviewers notice, at this early stage, of several court rulings related to public participation in the environmental review process. First, reviewers of a draft EIS must structure their participation in the environmental review of the proposal so that it is meaningful and alerts the agency to the reviewer's position contentions. Vermont Yankee Nuclear Plant Corp. v. NRDC, 435 U.S. 519, 553 (1978). Also, environmental objections that could be raised at the draft EIS stage but that are not raised until after completion of the final EIS may be waived or dismissed by the courts. City of Angoon v. Hodel, 803 f. 2d 1016, 1022 (9th Cir. 1986) and Wisconsin Heritages, Inc, v. Harris, 490 F. Supp. 1334, 1338 (E.D. Wis. 1980). Because of these court rulings, it is very important that those interested in this proposed action participate by the close of the 45-day comment period so that substantive comments and objections are made available to the Forest Service at a time when it can meaningfully consider and respond to them in the final EIS. To assist the Forest Service in identifying and considering issues and concerns on the proposed actions, comments on the draft EIS should be as specific as possible. It is also helpful if comments refer to specific pages or chapters of the draft EIS. Comments may also address the adequacy of the draft EIS or merits of the alternatives formulated and discussed in the statement. (Reviewers may wish to refer to the Council on Environmental Quality Regulations for implementing the procedural provisions of the National Environmental Policy Act at 40 CFR 1503.3 in addressing these points.)

The final EIS is scheduled for completion by February 2003. In the final EIS, the Forest Service is required to respond to substantive comments received during the comment period for the draft EIS. Rebecca Heath, Forest Supervisor of the Gallatin National Forest, is the responsible official for all except use of herbicides within designated Wilderness Areas. The responsible official for use of herbicides within designated Wilderness Areas is Brad Powell, Regional Forester of the Northern Region. They will decide which, if any, of the proposed project alternatives will be implemented.

Their decisions and reasons for the decisions will be documented in appropriate Records of Decision. Those decisions will be subject to Forest Service appeal regulations (36 CFR part 215).

Dated: December 18, 2002.
Rebecca Heath,
Forest Supervisor.

[FR Doc. 03-1044 Filed 1-16-03; 8:45 am]

BILLING CODE 3410-11-M